INTERNATIONAL TRADE COMMISSION

[Investigation Nos. 701-TA-704-705 and 731-TA-1664-1666 (Final)]

Paper Plates From China, Thailand, and Vietnam

Determinations

On the basis of the record ¹ developed in the subject investigations, the United States International Trade Commission (“Commission”) determines, pursuant to the Tariff Act of 1930 (“the Act”), that an industry in the United States is materially injured by reason of imports of paper plates from China, Thailand, and Vietnam, provided for in subheading 4823.69.00 of the Harmonized Tariff Schedule of the United States, that have been found by the U.S. Department of Commerce (“Commerce”) to be sold in the United States at less than fair value (“LTFV”), and that have been found to be subsidized by the governments of China and Vietnam.2 3

¹ The record is defined in § 207.2(f) of the Commission's Rules of Practice and Procedure (19 CFR 207.2(f)).

² 90 FR 8271; 90 FR 8262; 90 FR 8265; 90 FR 8281; 90 FR 8258 (January 28, 2025).

³ The Commission also finds that imports subject to Commerce's affirmative critical circumstances determinations are likely to undermine seriously the remedial effect of the countervailing and antidumping duty orders on paper plates from China (Commissioner David S. Johanson dissenting), and are not likely to undermine seriously the remedial effect of the antidumping duty order on paper plates from Thailand or the countervailing and antidumping duty orders on paper plates from Vietnam (Commissioner Jason E. Kearns dissenting on Vietnam).

Background

The Commission instituted these investigations effective January 25, 2024, following receipt of petitions filed with the Commission and Commerce by the American Paper Plate Coalition, which is comprised of AJM Packaging Corporation, Bloomfield Hills, Michigan, Aspen Products, Inc., Kansas City, Missouri, Dart Container Corporation, Mason, Michigan, Hoffmaster Group, Inc., Oshkosh, Wisconsin, Huhtamaki Americas, Inc., De Soto, Kansas, and Unique Industries, Inc., Philadelphia, Pennsylvania. The final phase of the investigations was scheduled by the Commission following notification of preliminary determinations by Commerce that imports of paper plates from China and Vietnam were subsidized within the meaning of section 703(b) of the Act (19 U.S.C. 1671b(b)) and imports of paper plates from China, Thailand, and Vietnam were sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on September 18, 2024 (89 FR 76508). Since one interested party requested cancellation of the hearing after no other parties submitted a request to appear at the hearing, the public hearing in connection with the investigations, originally scheduled for January 23, 2025, was cancelled (90 FR 8142, January 24, 2025).

The Commission made these determinations pursuant to §§ 705(b) and 735(b) of the Act (19 U.S.C. 1671d(b) and 19 U.S.C. 1673d(b)). It completed and filed its determinations in these investigations on March 13, 2025. The views of the Commission are contained in USITC Publication 5595 (March 2025), entitled Paper Plates from China, Thailand, and Vietnam: Investigation Nos. 701-TA-704-705 and 731-TA-1664-1666 (Final).

By order of the Commission.
Issued: March 14, 2025.
Lisa Barton,
Secretary to the Commission.

[FR Doc. 2025-04554 Filed 3-18-25; 8:45 am]

BILLING CODE 7020-02-P